Proclamation 10183 of April 16, 2021

National Volunteer Week, 2021

By the President of the United States of America

A Proclamation

We are living in a moment that calls for hope and light and love. Hope for our futures, light to see our way forward, and love for one another. Volunteers provide all three. Service—the act of looking out for one another—is part of who we are as a Nation. Our commitment to service reflects our understanding that we can best meet our challenges when we join together. This week, we recognize the enduring contributions of our Nation's volunteers and encourage more Americans to join their ranks.

The tremendous power of volunteers and volunteerism has been on dramatic display in our response to the COVID-19 pandemic. All across the country, retired doctors and nurses, students and veterans, personnel from across the Federal Government, and countless others have given their time and talent to administer vaccines, staff vaccination centers, boost testing, tracing, and other life-saving public health measures, and provide food, water, and other necessities to those at heightened risk so they can remain safely at home.

Volunteers of all ages and walks of life have stepped forward in other ways to meet this moment. When a severe winter storm left millions without power in Texas and wildfires ravaged our Western States, neighbors from near and far provided food, shelter, and support. Throughout this unprecedented year, people across America have given help and hope by checking on isolated seniors, helping the jobless, and tutoring students to help them stay on track in school. Their compassion reminds us that even in our darkest hours, Americans look out for one another.

To meet the unprecedented challenges of today and build back better for tomorrow, we must unite around a renewed commitment to service and to civic duty. As we work to defeat the pandemic, strengthen our economy, address racial inequity, and tackle the climate crisis, we need more Americans to get involved. Government cannot do the job alone, but government—working together with nonprofits and community organizations, the private sector, and the American people—can make our country stronger, more prosperous, and ready for the future.

When more Americans step forward to serve, it renews our sense of community and strengthens our democracy. Acts of service unite people from different backgrounds and allow us to truly see and hear one another.

By helping others, volunteers also help themselves. They learn new skills, expand their professional networks, connect with neighbors, and experience the satisfaction that comes from serving a larger cause. Service can provide a pathway to employment, education, and other career-building opportunities. As we reopen our economy and build back better, volunteerism can help the unemployed find work and make our communities more resilient and prepared.

The Biden-Harris Administration is committed to expanding service opportunities for Americans, including opportunities that enable us to confront the toughest challenges faced by our Nation. The American Rescue Plan includes a historic investment in AmeriCorps to make national service more accessible. We seek to enable more service members and volunteers to support vaccination efforts, tackle the growing hunger crisis, address learning loss, and meet other critical community needs.

During National Volunteer Week, we celebrate the millions of Americans who volunteer and encourage more to follow their path. Every American has something to give. No matter your age, background, or where you come from, you can have an impact through service. Vice President Harris and I salute every American who takes time to help their neighbors, and we applaud the extraordinary faith-based, nonprofit, national service, military service, and community organizations that make this service possible.

NOW, THEREFORE, I, JOSEPH R. BIDEN JR., President of the United States of America, by virtue of the authority vested in me by the Constitution and the laws of the United States, do hereby proclaim April 18 through April 24, 2021, as National Volunteer Week. I call upon all Americans to observe this week by volunteering in service projects across the country and pledging to make service a part of their daily lives.

IN WITNESS WHEREOF, I have hereunto set my hand this sixteenth day of April, in the year of our Lord two thousand twenty-one, and of the Independence of the United States of America the two hundred and forty-fifth.

[FR Doc. 2021-08415

Filed 4-20-21; 8:45 am]

Billing code 3295-F1-P